DEPARTMENT OF THE INTERIOR

National Park Service

[NPS-WASO-NAGPRA-22420; PPWOCRADN0-PCU00RP14.R50000]

Notice of Inventory Completion: Peabody Museum of Natural History, Yale University, New Haven, CT

AGENCY: National Park Service, Interior.

ACTION: Notice.

SUMMARY: The Peabody Museum of Natural History has completed an inventory of human remains, in consultation with the appropriate Alaska Native Tribes, and has determined that there is a cultural affiliation between the human remains and present-day Alaska Native Tribes. Lineal descendants or representatives of any Indian tribe or Native Hawaiian organization not identified in this notice that wish to request transfer of control of these human remains should submit a written request to the Peabody Museum of Natural History. If no additional requestors come forward, transfer of control of the human remains to the Alaska Native Tribes stated in this notice may proceed.

DATES: Lineal descendants or representatives of any Indian tribe or Native Hawaiian organization not identified in this notice that wish to request transfer of control of these human remains should submit a written request with information in support of the request to the Peabody Museum of Natural History at the address in this notice by January 3, 2017.

ADDRESSES: Professor David Skelly, Director, Yale Peabody Museum of Natural History, P.O. Box 208118, New Haven, CT 06520-8118, telephone (203) 432-3752.

SUPPLEMENTARY INFORMATION: Notice is here given in accordance with the Native American Graves Protection and Repatriation Act (NAGPRA), 25 U.S.C. 3003, of the completion of an inventory of human remains under the control of the Peabody Museum of Natural History, Yale University, New Haven, CT. The human remains were removed from Passage Island, Kenai Peninsula Borough, AK.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by Peabody Museum of Natural History professional staff in consultation with a representative of the Native Village of Chenega (aka Chanega), the Native Village of Eyak (Cordova), the Native Village of Nanwalek (aka English Bay), the Native Village of Port Graham, the Native Village of Tatitlek, and the Chugach Alaska Corporation.

History and Description of the Remains

In 1931, human remains representing one individual were removed from a burial on Passage Island in Kenai Peninsula Borough, AK. According to historical documentation, the burial was uncovered by a local fox farmer and was subsequently collected by the Yale Peabody Alaska Expedition. The human remains represent one individual identified as a probable female, aged approximately 20-25 years. No known individuals were identified. No associated funerary objects are present.

Osteological examination as well as contextual data identify these human remains as representing an individual of Native American ancestry. Archaeologist Frederica de Laguna identifies the Passage Island burial site as a local expression of the Third Period of the Kachemak Bay Tradition. Recent scholars have dated the Kachemak Bay Tradition from circa 1000 B.C. to A.D. 900. Additional scholars have identified the Kachemak Bay Tradition people as Pacific Eskimos. The Pacific Eskimo people are today represented by the Native Village of Chenega, the Native Village of Eyak, the Native Village of Nanwalek, the Native Village of Port Graham, and the Native Village of Tatitlek.

Determinations Made by the Peabody Museum of Natural History, Yale University

Officials of the Peabody Museum of Natural History have determined that:

• Pursuant to 25 U.S.C. 3001(9), the human remains described in this notice represent the physical remains of one individual of Native American ancestry.

• Pursuant to 25 U.S.C. 3001(2), there is a relationship of shared group identity that can be reasonably traced between the Native American human remains and of the Native Village of Chenega (aka Chanega), the Native Village of Eyak (Cordova), the Native Village of Nanwalek (aka English Bay), the Native Village of Port Graham, and the Native Village of Tatitlek.

Additional Requestors and Disposition

Lineal descendants or representatives of any Indian tribe or Native Hawaiian organization not identified in this notice that wish to request transfer of control of these human remains should submit a written request with information in support of the request to Professor David Skelly, Director, Yale Peabody Museum of Natural History, P.O. Box 208118, New Haven, CT 06520-8118, telephone (203) 432-3752, by January 3, 2017. After that date, if no additional requestors have come forward, transfer of control of the human remains to the Chugach Alaska Corporation as an agent for the Native Village of Chenega (aka Chanega), the Native Village of Eyak (Cordova), the Native Village of Nanwalek (aka English Bay), the Native Village of Port Graham, and the Native Village of Tatitlek may proceed.

The Peabody Museum of Natural History is responsible for notifying the of the Native Village of Chenega (aka Chanega), the Native Village of Eyak (Cordova), the Native Village of Nanwalek (aka English Bay), the Native Village of Port Graham, the Native Village of Tatitlek, and the Chugach Alaska Corporation that this notice has been published.

Dated: November 15, 2016.
Melanie O'Brien,
Manager, National NAGPRA Program.

[FR Doc. 2016-28948 Filed 12-1-16; 8:45 am]

BILLING CODE 4312-52-P